DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 16, 2009.

Interested persons are invited to submit written comments regarding the subject matter of the investigations to the Director, Division of Trade Adjustment Assistance, at the address shown below, not later than November 16, 2009.

The petitions filed in this case are available for inspection at the Division of Trade Adjustment Assistance, Employment and Training Administration, U.S. Department of Labor, Room N-5428, 200 Constitution Avenue, NW., Washington, DC 20210.

Signed at Washington, DC, this 26th day of October 2009.
Richard Church,
Certifying Officer, Division of Trade Adjustment Assistance.

Appendix
[TAA petitions instituted between 9/7/09 and 9/11/09]
TA-W | Subject firm (petitioners) | Location | Date of institution | Date of petition
72226 | NSI International, Inc. (State) | Farmingdale, NY | 09/08/09 | 09/04/09
72227 | EPIC Technologies, LLC (Comp) | Norwalk, OH | 09/08/09 | 09/04/09
72228 | Freescale Semiconductor, Inc. (Wkrs) | Austin, TX | 09/08/09 | 09/04/09
72229 | Microfibres, Inc. (Comp) | Belden, MS | 09/08/09 | 09/04/09
72230 | Frantz Manufacturing Company (Comp) | Sterling, IL | 09/08/09 | 09/02/09
72231 | Lonza Inc., Riverside Plant (Union) | Conshohocken, PA | 09/08/09 | 09/02/09
72232 | ABM Janitorial (Wkrs) | Detroit, MI | 09/08/09 | 09/04/09
72233 | NSI International, Inc. (State) | Farmingdale, NY | 09/08/09 | 09/04/09
72234 | Rieter Automotive, N.A. (Comp) | Lowell, IN | 09/08/09 | 09/04/09
72235 | Albany International Research Company (State) | Mansfield, MA | 09/08/09 | 09/02/09
72236 | Sony Electronics, Inc. (Auth) | Mount Pleasant, PA | 09/08/09 | 09/08/09
72237 | Agfa HealthCare, Inc. (Comp) | Westerly, RI | 09/08/09 | 09/03/09
72238 | Teleperformance USA (Wkrs) | Clearfield, UT | 09/08/09 | 09/02/09
72239 | Runia Transportation (Wkrs) | Eugene, OR | 09/08/09 | 09/03/09
72240 | Emerson Electric Company—Daniel Measurement & Control (Wkrs) | Statesboro, GA | 09/08/09 | 09/04/09
72241 | Autodie, LLC (Comp) | Grand Rapids, MI | 09/09/09 | 08/31/09
72242 | Anchor Coupling, Inc. (Wkrs) | Chambersburg, PA | 09/09/09 | 09/03/09
72243 | Frank J. Upchurch Company (Comp) | Charlotte, NC | 09/09/09 | 09/09/09
72244 | Control Logic, Inc. (Wkrs) | Connelly Springs, NC | 09/09/09 | 08/28/09
72245 | Cam Shaft Machine LLC (State) | Jackson, MI | 09/09/09 | 09/08/09
72246 | Greenheck Fan Corporation (Wkrs) | Schofield, WI | 09/09/09 | 09/08/09
72247 | Performix East Chicago, Division of Harsco Corporation (Wkrs) | East Chicago, IL | 09/09/09 | 09/02/09
72248 | Manufacturers Services Industries, Inc. (Comp) | Drummond Island, MI | 09/09/09 | 09/08/09
72249 | CJ's Wholesale Socks, Inc. (State) | Fort Payne, AL | 09/09/09 | 08/09/09
72250 | Cleanpak International (Comp) | Clackamas, OR | 09/09/09 | 09/08/09
72251 | Supervalu, Inc. (Comp) | Boise, ID | 09/09/09 | 09/02/09
72252 | Avaya Inc. (Wkrs) | Basking Ridge, NJ | 09/09/09 | 05/28/09
72253 | Russell Brands, LLC (Comp) | Fort Payne, AL | 09/09/09 | 09/03/09
72254 | SPI—Solutions People Innovation (Wkrs) | Lawrenceburg, TN | 09/09/09 | 09/03/09
72255 | Optimal Inc. and Populus Group (Wkrs) | Warren, MI | 09/09/09 | 08/25/09
72256 | Postitronic Industries (Cabool Facility) (Comp) | Cabool, MO | 09/10/09 | 09/09/09
72257 | Rockwell Automation Company (State) | Mequon, WI | 09/10/09 | 09/09/09
72258 | Toledo Commutator (Wkrs) | Owaosso, MI | 09/10/09 | 09/09/09
72259 | DuPont Teijin Films (Wkrs) | Florence, SC | 09/10/09 | 09/09/09
72260 | HDM Transportation (Comp) | Lenoir, NC | 09/10/09 | 09/09/09
72261 | CooperVision (Comp) | Norfolk, VA | 09/10/09 | 09/09/09
72262 | Imation Corporation (State) | Oakdale, MN | 09/10/09 | 09/09/09
72263 | H & H Trailer Company (Comp) | Clarinda, IA | 09/10/09 | 09/08/09
72264 | Greenway Lumber Company (Wkrs) | Wakesboro, TN | 09/10/09 | 08/31/09
72265 | Strippit LVD (IAMAW) | Akron, NY | 09/10/09 | 08/31/09
72266 | Taylor Nelson Sofres Intersearch Corporation (Wkrs) | Northwood, OH | 09/10/09 | 08/28/09
72267 | United Healthcare (Wkrs) | San Diego, CA | 09/10/09 | 08/31/09
72268 | Ceridian Corporation (Wkrs) | Morrisville, NC | 09/10/09 | 08/28/09
72269 | Thermal Product Solutions (Wkrs) | White Deer, PA | 09/10/09 | 09/02/09
72270 | Nielsen Bainbridge (Wkrs) | Gainesboro, TN | 09/10/09 | 09/02/09
72271 | Vincent Industrial Plastics, Inc. (Wkrs) | Henderson, KY | 09/10/09 | 09/02/09
72272 | Mitsubishi Motors RID (Wkrs) | Ann Arbor, MI | 09/10/09 | 09/05/09
72273 | Top Eastern Drill (Formerly Kennametal, Inc.) (Wkrs) | Evans, GA | 09/10/09 | 09/01/09
72274 | Codi, Inc. (Wkrs) | Harrisburg, PA | 09/10/09 | 09/01/09
72275 | Anheuser-Busch, Inc. (State) | Mt. Vernon, IL | 09/10/09 | 09/02/09
72276 | Weyerhaeuser Company (Union) | Warrenton, OR | 09/10/09 | 09/02/09
72277 | Hickory White Upholstery (Comp) | High Point, NC | 09/11/09 | 09/10/09
72278 | Sabic Innovative Plastics US, LLC (Wkrs) | Washington, WV | 09/11/09 | 09/09/09
72279 | GES US (New England), Inc. (Comp) | Lowell, MA | 09/11/09 | 09/09/09
72280 | International Legwear Group (Comp) | Hildebran, NC | 09/11/09 | 09/10/09
72281 | Hardwoods of Morganton, Inc. (Comp) | Morganton, NC | 09/11/09 | 08/20/09
72282 | NCM LP (Wkrs) | Grundy Center, IA | 09/11/09 | 09/01/09
72283 | International Business Machines (IBM) (Wkrs) | Endicott, NY | 09/11/09 | 09/09/09
72284 | Intermatic Incorporated (Comp) | Spring Grove, IL | 09/11/09 | 09/10/09

[FR Doc. E9-26569 Filed 11-4-09; 8:45 am]

BILLING CODE 4510-FN-P